DEPARTMENT OF AGRICULTURE

Forest Service

Notice of Intent To Issue Forest Order Closing Hyalite Canyon on the Custer Gallatin National Forest to Recreational Shooting

AGENCY: Forest Service, Agriculture (USDA).

ACTION: Notice.

SUMMARY: The Forest Service, U.S. Department of Agriculture, is giving notice of its intent to issue a forest order closing the Hyalite drainage on the Custer Gallatin National Forest in Montana to recreational shooting in advance of the public comment period for the proposed closure. At the end of the period of advance notice, the Forest Service will solicit public comments, as specified in this notice, on the proposed forest order.

DATES: Advance notice of the opportunity to provide public comment on the proposed recreational shooting order is being provided until June 10, 2022. Beginning on June 10, 2022, the Forest Service will accept comments on the proposed forest order for 60 days. The notice of opportunity for public comment will be posted on the Custer Gallatin National Forest web page at https://www.fs.usda.gov/alerts/custergallatin/alerts-notices and at the Forest Service's website at www.fs.usda.gov/about-agency/regulations-policies.

ADDRESSES: The proposed forest order and the justification for the proposed forest order are available on the Custer Gallatin National Forest web page: https://www.fs.usda.gov/alerts/custergallatin/alerts-notices and at the Forest Service's website at www.fs.usda.gov/about-agency/regulations-policies or can be viewed at the Bozeman Ranger District Office, Custer Gallatin National Forest, 3710 Fallon Street, Suite C, Bozeman, MT 59718. Please call ahead to ensure access: 406-522-2520.

FOR FURTHER INFORMATION CONTACT: Corey Lewellen, District Ranger, 406-522-2531, corey.lewellen@usda.gov. Individuals who use telecommunications devices for the deaf and hard of hearing (TDD) may call the Federal Relay Service (FRS) at 1-800-877-8339, 24 hours a day, every day of the year, including holidays.

SUPPLEMENTARY INFORMATION:

I. Advance Notice and Public Comment Procedures

Section 4103 of the John D. Dingell, Jr., Conservation, Management, and Recreation Act (Pub. L. 116-9) requires that the Secretary of Agriculture, acting through the Chief of the Forest Service, provide public notice and comment before permanently or temporarily closing any National Forest System lands to hunting, fishing, or recreational shooting. Section 4103 applies to the proposed forest order closing the Hyalite canyon area to recreational shooting, with the exception of hunting under Montana state law. The public notice and comment process in section 4103(b)(2) requires the Secretary to publish an advance notice of intent, in the Federal Register, of the proposed closure in advance of the public comment period for the closure. This notice meets the requirement to publish a notice of intent in the Federal Register in advance of the public comment period. Following the notice of intent, section 4103(b)(2) requires an opportunity for public comment. Because the proposed forest order would permanently close the Hyalite canyon area to recreational shooting, the public comment period must be not less than 60 days. Beginning on June 10, 2022, the Forest Service will accept public comments on the proposed order for 60 days. The notice of opportunity for public comment will be posted on the Custer Gallatin National Forest web page at https://www.fs.usda.gov/alerts/custergallatin/alerts-notices and at the Forest Service's website at www.fs.usda.gov/about-agency/regulations-policies.

Section 4103(b)(2) requires the Forest Service to respond to public comments received on the proposed order before issuing a final order, including an explanation of how any significant issues raised by the comments were resolved and, if applicable, how resolution of those issues affected the proposed order or the justification for the proposed order. The response to comments on the proposed order, justification for the final order, and the issuance of the final forest order will all be posted on the Custer Gallatin National Forest web page at https://www.fs.usda.gov/alerts/custergallatin/alerts-notices and at the Forest Service's website at www.fs.usda.gov/about-agency/regulations-policies.

II. Background and Need for Forest Order

This proposed permanent recreational shooting closure is needed to ensure public safety in the Hyalite watershed. This proposed, permanent recreational shooting closure will replace the existing, emergency shooting closure order implemented on April 21, 2022. This recent emergency closure order replaced the previous emergency shooting closure order that was issued on April 21, 2021 and expired on April 20, 2022. Both emergency orders followed direction in FSH 5309.11, Chapter 30, Section 34.21. The current emergency shooting closure order will be rescinded when the permanent closure is approved and fully implemented. This watershed is the most heavily used drainage on National Forest System lands in the state of Montana. The Hyalite watershed experiences exceptionally high numbers of recreational visitors. In 2016, the canyon received more than 40,000 visitors per month in the summer and over 20,000 visitors per month in the winter. Current visitor monitoring indicates use has increased over the last 5 years to more than 60,000 visitors per month in the summer and over 30,000 visitors per month in the winter. Within the 34,000-acre proposed closure area, there are 475 developed sites, 185 dispersed camping sites, about 70 miles of trail and 65 miles of roads. The narrow geography of this glaciated valley, the density of roads and trails, developed and undeveloped sites, and the volume of people who recreate in this area make it unsafe for unmanaged recreational target shooting.

The proposed forest order, map, and the justification for the forest order are available on the Custer Gallatin National Forest web page at https://www.fs.usda.gov/alerts/custergallatin/alerts-notices and at the Forest Service's website at www.fs.usda.gov/about-agency/regulations-policies.

Dated: May 24, 2022.
Tina Johna Terrell,
Associate Deputy Chief, National Forest System.

[FR Doc. 2022-11904 Filed 6-2-22; 8:45 am]

BILLING CODE 3411-15-P